DEPARTMENT OF TRANSPORTATION

Federal Aviation Administration

14 CFR Part 39

[Docket No. 2003-NM-47-AD; Amendment 39-13566; AD 2004-07-22]

RIN 2120-AA64

Airworthiness Directives; Boeing Model 747 Series Airplanes

AGENCY: Federal Aviation Administration, DOT.

ACTION: Final rule; correction.

SUMMARY: This document corrects a typographical error that appeared in airworthiness directive (AD) 2004-07-22 that was published in the Federal Register on April 7, 2004 (69 FR 18250). The typographical error resulted in reference to an incorrect paragraph number. This AD is applicable to all Boeing Model 747 series airplanes. This AD requires that the FAA-approved maintenance inspection program be revised to include inspections that will give no less than the required damage tolerance rating for each structural significant item, and repair of cracked structure.

DATES: Effective May 12, 2004.

FOR FURTHER INFORMATION CONTACT: Tamara L. Anderson, Aerospace Engineer, Airframe Branch, ANM-120S, FAA, Transport Airplane Directorate, Seattle Aircraft Certification Office, 1601 Lind Avenue, SW., Renton, Washington 98055-4056; telephone (425) 917-6421; fax (425) 917-6590.

SUPPLEMENTARY INFORMATION: Airworthiness Directive (AD) 2004-07-22, amendment 39-13566, applicable to all Boeing Model 747 series airplanes, was published in the Federal Register on April 7, 2004 (69 FR 18250). That AD requires that the FAA-approved maintenance inspection program be revised to include inspections that will give no less than the required damage tolerance rating for each structural significant item, and repair of cracked structure.

As published, Note 1 of the AD has a typographical error in the paragraph reference of the sentence “requesting approval for an alternative method of compliance per paragraph (h)(1) of this AD.” The correct reference is paragraph (g)(1) of this AD.

Since no other part of the regulatory information has been changed, the final rule is not being republished in the Federal Register.

The effective date of this AD remains May 12, 2004.

§ 39.13 [Corrected]

On page 18254, in the first column, Note 1 of AD 2004-07-22 is corrected to read as follows:

* * * * *

Note 1: * * * For airplanes that have been modified, altered, or repaired so that the performance of the requirements of this AD is affected, the owner/operator must request approval for an alternative method of compliance per paragraph (g)(1) of this AD. * * *

* * * * *

Issued in Renton, Washington, on April 21, 2004.
Kalene C. Yanamura,
Acting Manager, Transport Airplane Directorate, Aircraft Certification Service.

[FR Doc. 04-9899 Filed 4-30-04; 8:45 am]

BILLING CODE 4910-13-P